FEDERAL ACCOUNTING STANDARDS ADVISORY BOARD

Notice of New Exposure Draft Recognition of the Transfer of Funds Between Interior's Reclamation Fund and Energy's Western Area Power Administration: In Accordance With SFFAS 1 Accounting for Selected Assets and Liabilities and SFFAS 5 Accounting for Liabilities of the Federal Government

Board Action: Pursuant to the Federal Advisory Committee Act (Pub. L. 92-463), as amended, section 10(a)(2), and the FASAB Rule Of Procedure, as amended in October, 1999, notice is hereby given that the Accounting and Auditing Policy Committee has issued an exposure draft of a new Federal Financial Accounting and Auditing Technical Release entitled, Recognition of the Transfer of Funds Between Interior's Reclamation Fund and Energy's Western Area Power Administration: In Accordance with SFFAS 1 Accounting for Selected Assets and Liabilities and SFFAS 5 Accounting for Liabilities of the Federal Government.

A summary of the proposed Statements follows: The purpose of this proposed technical release is to provide technical guidance to the Department of Energy (Energy) and the Department of the Interior (Interior) on a difference in their interpretation of the effect of legislation on their application of accounting standards to certain transactions between them.

Respondents are encouraged to comment on any part of the exposure drafts. Written comments are requested by September 20, 2004, and should be sent to: Wendy M. Comes, Executive Director, Federal Accounting Standards Advisory Board, 441 G Street, NW., Suite 6814, Washington, DC 20548.

Copies of the Exposure Drafts can be obtained by contacting FASAB at 202-512-7350 or valentinem@fasab.gov. Additionally, the Exposure Drafts will be available on FASAB's home page http://www.fasab.gov/.

FOR FURTHER INFORMATION CONTACT: Wendy Comes, Executive Director, 441 G St., NW., Mail Stop 6K17V, Washington, DC 20548, or call (202) 512-7350.

Authority: Federal Advisory Committee Act. Pub. L. 92-463.

Dated: August 20, 2004.
Charles Jackson,
Federal Register Liaison Officer.

[FR Doc. 04-19503 Filed 8-24-04; 8:45 am]

BILLING CODE 1610-01-M